DEPARTMENT OF HEALTH AND HUMAN SERVICES

Office of the Assistant Secretary for Planning and Evaluation; Notice of an Extension of Cooperative Agreements for National Poverty Research Centers

The Office of the Assistant Secretary for Planning and Evaluation (OASPE) announces its intention to award a one year non-competitive extension of its poverty research center cooperative agreements. In FY 1996 the Office of the Assistant Secretary for Planning and Evaluation, Department of Health and Human Services (DHHS) awarded two five-year cooperative agreements to support national poverty research centers. The poverty center program provides basic and applied research into the causes, consequences and remedies of poverty as well as provide for the mentoring and training of poverty scholars, and a forum for dissemination of research and evaluation findings. The recipients of the cooperative agreements were the Joint Center for Poverty Research at Northwestern University/University of Chicago (JCPR) and the Institute for Research on Poverty at the University of Wisconsin (IRP). The current grant period expires in late FY 2001.

OASPE intends to extend the cooperative agreements for one-year at current funding levels: $1,500,000 to JCPR and $500,000 to IRP. The extension will allow sufficient time for OASPE to reexamine the purposes and goals of its poverty center program and provide ample time for a new full and open competition. This extension will allow the current national poverty research centers to continue to provide high quality basic and applied poverty research, mentoring and training activities, and dissemination of policy relevant findings as specified in the cooperative agreements.

Authorizing Legislation

These cooperative agreements are authorized under Section 1110 of the Social Security Act.

Nothing in this announcement commits OASPE to renewing or re-competing the poverty center program.

Comments and questions related to this extension will be accepted until July 18, 2001. Written comments should be directed to Donald T. Oellerich, OASPE Project Officer by e-mail at doelleri@osaspe.dhhs.gov or fax at 202-690-6562 or by mail at DHHS, OASPE, 200 Independence Av. SW., Room 404E, Washington, DC 20201.

Dated: June 25, 2001.
William F. Raub,
Acting Assistant Secretary for Planning and Evaluation.

[FR Doc. 01-16621 Filed 7-2-01; 8:45 am]

BILLING CODE 4154-05-P